DEPARTMENT OF HOMELAND SECURITY

U.S. Customs and Border Protection

[Docket No. USCBP-2010-0021]

Notice of Meeting of the Advisory Committee on Commercial Operations of Customs and Border Protection (COAC)

AGENCY: U.S. Customs and Border Protection, Department of Homeland Security (DHS).

ACTION: Notice of Federal Advisory Committee Meeting.

SUMMARY: The Advisory Committee on Commercial Operations of U.S. Customs and Border Protection (COAC) will meet Thursday, July 15, 2010, from 2 to 3 p.m. EST via teleconference. The meeting is limited to one topic, the 2010 National Strategy for Global Supply Chain Security, which will be voted upon by the COAC members. The meeting will be open to the public.

DATES: The COAC meeting will take place from 2 to 3 p.m. EST on Thursday, July 15, 2010, via teleconference. Please be advised that the meeting is scheduled for one hour and that the meeting may close early if the committee completes its business.

ADDRESSES: The meeting will be held via teleconference. Members of the public interested in attending this teleconference meeting may do so by following the process outlined below (see “Public Participation”). Written comments must be submitted and received by July 9, 2010. Comments must be identified by USCBP-2010-0021 and may be submitted by one of the following methods:

• Federal eRulemaking Portal: http://www.regulations.gov. Follow the instructions for submitting comments.

• E-mail: tradeevents@dhs.gov. Include the docket number in the subject line of the message.

• Fax: 202-325-4290.

• Mail: Ms. Wanda Tate, Office of Trade Relations, U.S. Customs and Border Protection, Department of Homeland Security, 1300 Pennsylvania Avenue, NW., Room 5.2-A, Washington, DC 20229.

Instructions: All submissions received must include the words “Department of Homeland Security” and the docket number for this action. Comments received will be posted without alteration at http://www.regulations.gov, including any personal information provided.

Docket: For access to the docket to read background documents or comments received by COAC, go to http://www.regulations.gov.

FOR FURTHER INFORMATION CONTACT: Ms. Wanda Tate, Office of Trade Relations, U.S. Customs and Border Protection, Department of Homeland Security, 1300 Pennsylvania Avenue, NW., Room 5.2-A, Washington, DC 20229; tradeevents@dhs.gov; telephone 202-344-1440; facsimile 202-325-4290.

SUPPLEMENTARY INFORMATION: Pursuant to the Federal Advisory Committee Act (5 U.S.C. App.), DHS hereby announces the meeting of the Advisory Committee on Commercial Operations of Customs and Border Protection (COAC). COAC is tasked with providing advice to the Secretary of Homeland Security, the Secretary of the Treasury, and the Commissioner of U.S. Customs and Border Protection (CBP) on matters pertaining to the commercial operations of CBP and related functions within DHS or the Department of the Treasury. The teleconference meeting of the COAC will be held on the date and time specified above. The COAC will meet to discuss its views on the development of the 2010 National Strategy for Global Supply Chain Security.

Public Participation: This meeting is open to the public; however, participation in COAC deliberations is limited to committee members, Department of Homeland Security and Department of the Treasury officials, and persons invited to attend the meeting for special presentations. Please note that the meeting may close early if all business is finished. Members of the public may register online to attend this COAC teleconference meeting as per the instructions set forth below. All members of the public wishing to attend should promptly call in at the beginning of the teleconference.

Each individual must provide his or her full legal name, e-mail address and phone number no later than 5 p.m. EST on July 9, 2010, via online registration at https://apps.cbp.gov/te_registration/?w=26 or e-mail at tradeevents@dhs.gov or via phone at 202-344-1440. The meeting's teleconference call details will be provided to registered members of the public via e-mail.

Information on Services for Individuals with Disabilities: For information on services for individuals with disabilities or to request special assistance, contact Ms. Wanda Tate as soon as possible.

Dated: June 23, 2010.
Kimberly Marsho,
Director, Office of Trade Relations, U.S. Customs and Border Protection.

[FR Doc. 2010-15675 Filed 6-25-10; 8:45 am]

BILLING CODE 9111-14-P